DEPARTMENT OF ENERGY

10 CFR Parts 430

[Docket Number EERE-2013-BT-STD-0051]

RIN 1904-AD09

Energy Conservation Program: Energy Conservation Standards for General Service Lamps

AGENCY: Office of Energy Efficiency and Renewable Energy, Department of Energy.

ACTION: Notice of a public webinar.

SUMMARY: This document announces a public webinar to review the shipments model used in the analysis of the General Service Lamp notice of proposed rulemaking.

DATES: The teleconference will be held on March 23, 2016 at 1 p.m. EST until 3 p.m. EST.

ADDRESSES: Webinar information is posted on the General Service Lamps Web site https://www1.eere.energy.gov/buildings/appliance_standards/standards.aspx?productid=4.

FOR FURTHER INFORMATION CONTACT:

Ms. Lucy deButts, U.S. Department of Energy, Office of Energy Efficiency and Renewable Energy, Building Technologies Office, EE-5B, 1000 Independence Avenue SW., Washington, DC 20585-0121. Telephone: (202) 287-1604. Email: gsl@ee.doe.gov.

Ms. Celia Sher, U.S. Department of Energy, Office of the General Counsel, GC-33, 1000 Independence Avenue SW., Washington, DC 20585-0121. Telephone: (202) 287-6122. Email: celia.sher@hq.doe.gov.

SUPPLEMENTARY INFORMATION: The U.S Department of Energy (DOE) will examine the shipments model used in the analysis of the General Service Lamp notice of proposed rulemaking. Key equations used in the shipments model will be presented, and their implementation in the modeling software will be discussed. The webinar will also include a few demonstrations of calculations conducted by the shipments software. Members of the public are welcome to participate in the webinar and comment on the use of DOE's analytical tools. Register for the webinar at https://attendee.gotowebinar.com/register/5166265762915808259. Participants are responsible for ensuring their systems are compatible with the webinar software.

Docket: The docket is available for review at www.regulations.gov, including Federal Register notices, public meeting attendee lists and transcripts, comments, and other supporting documents/materials. All documents in the docket are listed in the www.regulations.gov index. However, not all documents listed in the index may be publicly available, such as information that is exempt from public disclosure.

Issued in Washington, DC, on March 10, 2016.
Kathleen B. Hogan,
Deputy Assistant Secretary for Energy Efficiency, Energy Efficiency and Renewable Energy.

[FR Doc. 2016-05825 Filed 3-14-16; 8:45 am]

BILLING CODE 6450-01-P